DEPARTMENT OF TRANSPORTATION

U.S. Merchant Marine Academy Board of Visitors; Public Meeting; Correction

AGENCY: Office of the Secretary, DOT.

ACTION: Notice; correction.

SUMMARY: On Friday, November 7, 2025, the U.S. Department of Transportation announced a meeting of the U.S. Merchant Marine Academy (USMMA) Board of Visitors (Board) on November 24, 2025. In that notice, the Department inadvertently specified the incorrect deadline for submission of written statements to the Board. This notice provides the correct deadline.

DATES: Written statements to be considered during the meeting must be received via email to ExternalAffairs@usmma.edu no later than November 17, 2025.

FOR FURTHER INFORMATION CONTACT: The Board's Designated Federal Officer and Point of Contact, Michael O'Hagan, 516-726-6048 or ExternalAffairs@usmma.edu.

SUPPLEMENTARY INFORMATION: The Department specified in the DATES section of the BOV meeting notice published on November 7, 2025 (90 FR 50502) that written statements to be considered during the meeting must be received via email to ExternalAffairs@usmma.edu no later than November 17, 2025. In the SUPPLEMENTARY INFORMATION section, however, the Department inadvertently specified that written statements should be submitted no later than November 10, 2024. This notice clarifies that the November 17, 2025 date is the correct date by which written statements should be submitted for consideration at the meeting.

(Authority: 46 U.S.C. 51312; 5 U.S.C. 552b; 5 U.S.C. Ch.10; 41 CFR parts 102-3.140 through 102-3.165)

Signed in Washington, DC, on November 13, 2025.
Jonathan Duggan Priebe,
Special Assistant for Governmental Affairs, U.S. Department of Transportation.

[FR Doc. 2025-19941 Filed 11-14-25; 8:45 am]

BILLING CODE 4910-81-P